DEPARTMENT OF THE INTERIOR

National Park Service

Winter Use Plan, Supplemental Final Environmental Impact Statement, Yellowstone and Grand Teton National Parks, and the John D. Rockefeller, Jr., Memorial Parkway, Wyoming

AGENCY: National Park Service, Department of the Interior.

ACTION: Notice of intent to prepare a supplemental environmental impact statement (SEIS) for the winter use plan, Yellowstone and Grand Teton National Parks, and the John D. Rockefeller, Jr., Memorial Parkway.

Background

In May 1997, the Fund for Animals, et al., filed suit against the National Park Service (NPS). The suit alleged that the NPS had failed to conduct adequate analysis under the National Environmental Policy Act (NEPA) when developing its winter use plan for the areas, failed to consult with the US Fish and Wildlife Service on the effects of winter use on threatened and endangered species, and failed to evaluate the effects of trail grooming on wildlife and other park resources. In October 1997, the Department of the Interior (DOI) and the plaintiffs reached a settlement agreement. Under the agreement, the NPS agreed, in part, to prepare an environmental impact statement (EIS) for new winter use plans for the parks and the parkway. This settlement provision was satisfied with publication and distribution of the final EIS (FEIS) on October 10, 2000. A record of decision (ROD) was signed by Intermountain Regional Director Karen Wade on November 22, 2000. The decision selected Alternative G from the FEIS, which eliminates both snowmobile and snowplane use from the parks by the winter of 2003-2004, and provides access via an NPS-managed, mass-transit snowcoach system.

Following publication of a proposed rule and the subsequent public comment period, a final rule was published in the Federal Register on January 22, 2001. The rule became effective on April 22, 2001. Full implementation of the plan and the rule changes do not occur until the winter of 2003-2004.

On December 6, 2000 the Secretary of the Interior, et al., were named as defendants in a lawsuit brought by the International Snowmobile Manufacturers Association, et al. The State of Wyoming intervened on behalf of the plaintiff. The lawsuit asks for the decision, as reflected in the ROD and final rule, to be set aside on the basis of alleged NEPA process infractions and other alleged process flaws. A settlement was achieved June 29, 2001 and, through its terms, NPS will act as lead agency to prepare a supplemental EIS. The State of Wyoming will act as a cooperating agency, and other federal, state and local government entities will be asked by NPS to enter the process in that status as well.

Summary

Under the provisions of the National Environmental Policy Act of 1969, the National Park Service is preparing a supplement to the environmental impact statement for the Winter Use Plan, Yellowstone and Grand Teton National Parks, and the John D. Rockefeller, Jr., Memorial Parkway (the Parkway). The preparation of a supplemental EIS is deemed necessary to further the purposes of the National Environmental Policy Act. The purposes of NEPA would be furthered by soliciting more public comment on the earlier decision and alternatives to it which will maintain protection of park resources. Additional information from the International Snowmobile Manufacturers Association will be considered, as well as any other new or updated information not available at the time of the earlier decision.

The purpose in the supplemental analysis remains the same as in the FEIS. The underlying purpose is to meet five objectives: (1) Visitors have a range of appropriate winter recreation opportunities from primitive to developed. Winter recreation complements the unique characteristics of each landscape within the ecosystem; (2) Recreational experiences are offered in an appropriate setting; they do not take place where they will irreparably impact air quality, wildlife, cultural areas, the experiences of other park visitors, or other park values and resources; (3) High quality facilities are provided in parks to support the need for safety and enhanced visitor experiences; (4) Conflicts among user groups are minimal; (5) Visitors know how to participate safely in winter use activities without damaging resources; and (6) Oversnow vehicle sound and emission levels are reduced to protect employee and public health and safety, enhance visitor experience, and protect natural resources.

The general scope of analysis remains the same from the FEIS. Any new alternative formulations would be within the range of alternative actions presented in the FEIS. The baseline comparison alternative for the SEIS is “no-action”, Alternative G from the FEIS, which phases out snowmobiles from the three park units. Also to be evaluated is one alternative that recombines features or conditions from other alternatives in the FEIS as a means of permitting snowmobiles to remain in the parks.

There are a number of specific actions associated with the current decision (FEIS Alternative G). To summarize: in the three park units, the decision allows oversnow motorized access via NPS-managed snowcoach only, beginning in the winter of 2003-2004. In Grand Teton National Park, it removes motorized oversnow vehicle use from Jackson Lake and ends snowmobile use on the interior park road in the winter of 2002-2003. It eliminates winter plowing of the route between Colter Bay and Flagg Ranch in the John D. Rockefeller, Jr., Memorial Parkway within 10 years. It also implements restrictions or closures on backcountry nonmotorized use in sensitive wildlife habitats.

The completion of a supplemental EIS is to follow a schedule set out in the settlement agreement. A draft supplemental EIS is to be posted on the NPS website by January 21, 2002. A Notice of Availability for the draft SEIS is to be published by March 15, 2002. If a new rule is determined to be appropriate, a proposed rule will be published at the same time. The comment period for both a proposed rule, if appropriate, and the draft SEIS would close on May 5, 2002. A final SEIS and a Notice of Availability are to be published on October 15, 2002. The outcome of the final supplemental EIS will be either to affirm the decision and final rule currently in place, or to change the decision and affirm a new rule. A Record of Decision and final rule are to be issued by November 15, 2002. Should a new decision and final rule be the outcome, the final rule would be in effect on December 15, 2002.

Additional information may be obtained from either Sarah Creachbaum (307-739-3321) or Bob Rossman (307-739-3467) at Grand Teton National Park, or John Sacklin (307-344-2020) at Yellowstone National Park.

Comments

You may mail comments to Winter Use Plan, Superintendent's Office, Grand Teton National Park, PO Drawer 170, Moose, WY 83012. You may also comment via the Internet to Yellowstone National Park e-mail: yell_winter_use@nps.gov. Please submit Internet comments as an ASCII file avoiding the use of special characters and any form of encryption. Please also include “Attn: Winter Use Plan” and your name and return address in your Internet message. If you do not receive a confirmation from the system that we have received your Internet message, contact us directly through Jennifer Conrad, Yellowstone National Park, 307-344-2021. Finally, you may hand-deliver comments to Superintendent's Office, Grand Teton National Park, Moose, Wyoming (Attn: Winter Use Plan). Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

FOR FURTHER INFORMATION CONTACT: Contact Superintendent, Grand Teton National Park, (307) 739-3410 or Superintendent, Yellowstone National Park (307) 344-2003.

Dated: July 12, 2001.
Karen P. Wade,
Director, Intermountain Region, National Park Service.

[FR Doc. 01-18697 Filed 7-26-01; 8:45 am]

BILLING CODE 4310-70-P